DEPARTMENT OF COMMERCE

International Trade Administration

[C-122-858]

Certain Softwood Lumber Products From Canada: Final Results of the Countervailing Duty Administrative Review; 2022

AGENCY: Enforcement and Compliance, International Trade Administration, Department of Commerce.

SUMMARY: The U.S. Department of Commerce (Commerce) determines that producers and exporters of certain softwood lumber products (softwood lumber) from Canada received countervailable subsidies during the period of review (POR), January 1, 2022, through December 31, 2022.

DATES: Applicable August 19, 2024.

FOR FURTHER INFORMATION CONTACT: Samuel Brummitt or Kristen Johnson, AD/CVD Operations, Office III, Enforcement and Compliance, International Trade Administration, U.S. Department of Commerce, 1401 Constitution Avenue NW, Washington, DC 20230; telephone: (202) 482-7851 or (202) 482-4793, respectively.

SUPPLEMENTARY INFORMATION:

Background

On February 6, 2024, Commerce published the preliminary results of this administrative review in the Federal Register and invited interested parties to comment.¹ On April 25, 2024, Commerce extended the deadline for issuing the final results of this review until August 2, 2024, which was tolled by seven days until August 9, 2024.² On August 7, 2024, Commerce extended the deadline for the final results of this review until August 12, 2024.³

¹ See Certain Softwood Lumber Products from Canada: Preliminary Results and Partial Rescission of Countervailing Duty Administrative Review; 2022, 89 FR 8147 (February 6, 2024) (Preliminary Results).

² See Memorandum, “Extension of Deadline for Final Results of Countervailing Duty Administrative Review; 2022,” dated April 25, 2024; see also Memorandum, “Tolling of Deadlines for Antidumping and Countervailing Duty Proceedings,” dated July 22, 2024.

³ See Memorandum, “Second Extension of Deadline for Final Results of Countervailing Duty Administrative Review; 2022,” dated August 7, 2024.

For a complete description of the events that occurred since the Preliminary Results, see the Issues and Decision Memorandum.⁴ A list of topics discussed in the Issues and Decision Memorandum is included as Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Decision Memorandum for the Final Results of Countervailing Duty Administrative Review of the Countervailing Duty Order on Certain Softwood Lumber Products from Canada; 2022,” dated concurrently with, and herby adopted by, this notice (Issues and Decision Memorandum).

Scope of the Order ⁵

⁵ See Certain Softwood Lumber Products from Canada: Amended Final Affirmative Countervailing Duty Determination and Countervailing Duty Order, 83 FR 347 (January 3, 2018) (Order).

The product covered by this Order is certain softwood lumber products from Canada. For a complete description of the scope of the order, see the Issues and Decision Memorandum.

Analysis of Subsidy Programs and Comments Received

Commerce conducted this administrative review in accordance with section 751(a)(1)(A) of the Tariff Act of 1930, as amended (the Act). For each of the subsidy programs found to be countervailable, we find that there is a subsidy, i.e., a government-provided financial contribution that gives rise to a benefit to the recipient, and that the subsidy is specific.⁶

⁶ See sections 771(5)(B) and (D) of the Act regarding financial contribution; section 771(5)(E) of the Act regarding benefit; and section 771(5A) of the Act regarding specificity.

Changes Since the Preliminary Results

The subsidy programs under review, and the issues raised in case and rebuttal briefs submitted by the interested parties, are discussed in the Issues and Decision Memorandum. Based on our analysis of the comments received from the interested parties, we made changes to the subsidy rates calculated for certain respondents. For a discussion of these changes, see the Issues and Decision Memorandum.

Rate for Non-Selected Companies Under Review

Because the rates calculated for the companies selected for individual review are above de minimis and not based entirely on facts available, we applied a subsidy rate based on a weighted average of the subsidy rates calculated for the reviewed companies using sales data submitted by those companies to calculate a rate for the companies not selected for review. This is consistent with the methodology that we would use in an investigation to establish the all-others rate, pursuant to section 705(c)(5)(A) of the Act.

For further information on the calculation of the non-selected rate, see the section titled “Final Ad Valorem Rate for Non-Selected Companies under Review” in the Issues and Decision Memorandum. For a list of the non-selected companies, see Appendix II to this notice.

Final Results of Review

In accordance with section 751(a)(1)(A) and of the Act and 19 CFR 351.221(b)(5), we determine that the following total net countervailable subsidy rates exist for the period January 1, 2022, through December 31, 2022:

Company | Subsidy rate (percent ad valorem)
Canfor Corporation and its cross-owned affiliates ⁷ | 6.14
J.D. Irving, Limited and its cross-owned affiliates ⁸ | 3.88
Tolko Marketing and Sales Ltd. and Tolko Industries Ltd.⁹ | 9.61
West Fraser Mills Ltd. and its cross-owned affiliates ¹⁰ | 6.85
Non-Selected Companies ¹¹ | 6.74

Disclosure

⁷ Commerce finds the following companies to be cross-owned with Canfor Corporation: Canadian Forest Products; Ltd. and Canfor Wood Products Marketing, Ltd.

⁸ Commerce finds the following companies to be cross-owned with J.D. Irving, Limited: Miramichi Timber Holdings Limited; The New Brunswick Railway Company; Rothesay Paper Holdings Ltd.; and St. George Pulp & Paper Limited.

⁹ Commerce finds Meadow Lake OSB Mill Corp. and several holding companies, the identities of which are business proprietary information, to be cross-owned with Tolko Marketing and Sales Ltd. and Tolko Industries Ltd.

¹⁰ Commerce finds the following companies to be cross-owned with West Fraser Mills Ltd.: Blue Ridge Lumber Inc.; Manning Forest Products, Ltd.; Sundre Forest Products Inc.; Sunpine Inc.; and West Fraser Alberta Holdings, Ltd.; and West Fraser Timber Co., Ltd.

¹¹ For a list of these companies, see Appendix II.

Commerce intends to disclose the calculations performed for these final results of review within five days of any public announcement or, if there is no public announcement, within five days of the date of publication of this notice in the Federal Register, in accordance with 19 CFR 351.224(b).

Assessment Rates

Pursuant to section 751(a)(2)(C) of the Act and 19 CFR 351.212(b)(2), Commerce has determined, and U.S. Customs and Border Protection (CBP) shall assess, countervailing duties on all appropriate entries of subject merchandise covered by this review. Commerce intends to issue assessment instructions to CBP no earlier than 41 days after the date of publication of the final results of this review in the Federal Register, in accordance with 19 CFR 356.8(a). If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce intends to instruct CBP to collect cash deposits of estimated countervailing duties in the amounts shown for the companies subject to this review for shipments of subject merchandise entered, or withdrawn from warehouse, for consumption on or after the date of publication of the final results of this administrative review. For all non-reviewed companies, we will instruct CBP to continue to collect cash deposits of estimated countervailing duties at the most recent company-specific or all-others rate applicable to the company, as appropriate. These cash deposits, when imposed, shall remain in effect until further notice.

Administrative Protective Order (APO)

This notice also serves as a final reminder to parties subject to an APO of their responsibility concerning the return or destruction of proprietary information disclosed under APO in accordance with 19 CFR 351.305(a)(3). Timely written notification of the return or destruction of APO materials or conversion to judicial protective order is hereby requested. Failure to comply with the regulations and the terms of an APO is a sanctionable violation.

Notification to Interested Parties

Commerce is issuing and publishing these final results of administrative review in accordance with sections 751(a)(1) and 777(i)(1) of the Act and 351.221(b)(5).

Dated: August 12, 2024.
Ryan Majerus,
Deputy Assistant Secretary for Policy and Negotiations, performing the non-exclusive functions and duties of the Assistant Secretary for Enforcement and Compliance.

Appendix I

List of Topics Discussed in the Issues and Decision Memorandum

I. Summary

II. Background

III. Scope of the Order

IV. Subsidies Valuation

V. Analysis of Programs

VI. Final Ad Valorem Rate for Non-Selected Companies Under Review

VII. Analysis of Comments

A. General Issues

Comment 1: Whether Commerce Should Have Deferred the New Subsidy Allegations

Comment 2: Whether Respondent Selection Was Proper

Comment 3: Whether Commerce Should Consider Climate Change Goals

Comment 4: Whether Commerce's Specificity Analysis Is Consistent with the Law

B. General Stumpage Issues

Comment 5: Whether Stumpage Is an Untied Subsidy

Comment 6: Whether to Compare Government Transaction-Specific Prices to an Average Benchmark Price or Offset the Less Than Adequate Remuneration (LTAR) Benefit Using Negative Benefits

C. Alberta Stumpage Issues

Comment 7: Whether the Alberta Stumpage Market Is Distorted

Comment 8: Whether Private Standing Timber Prices in Nova Scotia Are Available in Alberta

Comment 9: Whether the Tree Size in Nova Scotia, as Measured by Diameter, Is Comparable to Tree Size in Alberta

Comment 10: Whether Spruce-Pine-Fir (SPF) Species in Nova Scotia Are Comparable to SPF Species in Alberta

Comment 11: Whether the Nova Scotia Benchmark Is Comparable or Should Be Adjusted to Account for Log Product Characteristics

Comment 12: Whether Nova Scotia's Forest Is Comparable to Alberta's Forest

Comment 13: Whether Timber Damage Assessment Survey Prices Are an Appropriate Benchmark for Alberta Crown-Origin Stumpage

Comment 14: Whether Commerce Should Annualize Alberta Stumpage Purchase and Benchmark Prices

Comment 15: Whether to Adjust the Nova Scotia Benchmark to Account for Beetle-Damaged and Fire-Damaged Timber Harvested in Alberta

Comment 16: Whether Nova Scotia Is Comparable to Alberta in Terms of Haulage Costs and Whether to Otherwise Adjust the Nova Scotia Benchmark to Account for Such Differences

Comment 17: Whether Commerce Should Make Adjustments to Stumpage Rates Paid by the Respondents to Account for “Total Remuneration” in Alberta and New Brunswick

D. British Columbia (BC) Stumpage Issues

Comment 18: Whether Commerce Should Continue to Use Washington State Department of Revenue (WDOR) Data for a BC Stumpage Benchmark

Comment 19: Whether Commerce Should Make Adjustments to the WDOR Data

Comment 20: Whether to Change Commerce's Calculations Relating to Third Party Tenures

Comment 21: Whether to Account for BC's “Stand-as-a-Whole” Stumpage Pricing

Comment 22: Whether Commerce's Selection of a Log Volume Conversion Factor Was Appropriate

E. New Brunswick Stumpage Issues

Comment 23: Whether the Private Stumpage Market in New Brunswick Is Distorted and Should Be Used as Tier-One Benchmarks

Comment 24: Whether Commerce Should Use JDIL's Own Purchases of Sawlogs in Nova Scotia or the 2021-2022 Private Market Survey as a Benchmark for New Brunswick Crown Stumpage

Comment 25: Whether Log Pricing Differences Between Nova Scotia and New Brunswick Require an Adjustment to the Nova Scotia Benchmark Utilized in JDIL's Stumpage Benefit Analysis

F. Nova Scotia Stumpage Benchmark Issues

Comment 26: Whether to Revise the Conversion Factor Used in the Calculation of the Nova Scotia Benchmark

Comment 27: Whether Commerce Should Index the Nova Scotia Benchmark

Comment 28: Whether Commerce Should Publicly Disclose the Anonymized Data that Comprise the 2021-2022 Private Market Survey

Comment 29: Whether the Nova Scotia Benchmark Adequately Accounts for Regional and County-Level Differences

Comment 30: Reliability of Nova Scotia Private-Origin Standing Timber Benchmark

G. Log Export Restraint (LER) Issues

Comment 31: Whether the LER in British Columbia (BC) Results in a Financial Contribution

Comment 32: Whether the LER Has an Impact in BC

H. Purchase of Goods for More Than Adequate Remuneration Issues

Comment 33: Whether Benefits Under the BC Hydro Electricity Purchase Agreements (EPA) Program Are Tied to Overall Production

Comment 34: Whether Commerce Properly Calculated the Benefit Conferred Under the BC Hydro EPAs

I. Grant Program Issues

Federal

Comment 35: Whether the Sustainable Development Technology Canada Is Countervailable

Comment 36: Whether the Forest Machines Connectivity Master Project Is De Facto Specific

Comment 37: Whether the Green Jobs Program Is Countervailable

Alberta

Comment 38: Whether the AESO Load Shedding Program Is Countervailable

Comment 39: Whether the Technology Innovation and Emissions Reduction Program Is Countervailable

British Columbia

Comment 40: Whether BC's Coloured Fuel Program Is Countervailable

New Brunswick

Comment 41: Whether Commerce Should Continue to Find the Silviculture and License Management Programs Countervailable

J. Tax and Other Revenue Forgone Programs Issues

Federal

Comment 42: Whether the Accelerated Capital Cost Allowance (ACCA) for Class 53 Assets Program Is Specific

Comment 43: Whether Commerce Is Applying the Correct Benchmark for the ACCA for Class 53 Assets Program

Comment 44: Whether the Benefit Methodology for the ACCA Class 53 Assets Program Is Correct

Comment 45: Whether the Capital Cost Allowance for Class 1 Assets Program Is Countervailable

Comment 46: Whether the Federal and Provincial Research and Development (R&D) Tax Credits Are Specific

Comment 47: Whether Attribution of the R&D Tax Credits Is Correct

Comment 48: Whether the Federal Logging Tax Credit and Provincial Logging Tax Credit Are Countervailable

Alberta

Comment 49: Whether the Tax Exempt Fuel Use Is Countervailable

Comment 50: Whether the Property Tax Economic Obsolescence Allowance Is Countervailable

Comment 51: Whether Tax Savings Under Alberta's Schedule D Are Countervailable

British Columbia

Comment 52: Whether the CleanBC's Industrial Incentive Program Is Countervailable

New Brunswick

Comment 53: Whether the Gasoline and Motive Fuel Tax (GMFT) Program Provides a Financial Contribution in the Form of Revenue Forgone or Can Be Found Specific

Comment 54: Whether Commerce Should Revise the GMFT Benefit Calculation

Comment 55: Whether Commerce Should Find New Brunswick's Property Tax Incentives for Private Forest Producers Program Countervailable

Comment 56: Whether Commerce Should Find the Large Industrial Renewable Energy Purchase Program Countervailable

K. Company-Specific Issues

Comment 57: Whether Commerce Correctly Calculated the Benefit JDIL Received from the Atlantic Investment Tax Credit, Scientific Research and Experimental Development, and New Brunswick R&D Tax Credit Programs

Comment 58: Whether Commerce Should Correct an Error in Tolko's BC Coloured Fuel Calculation

Comment 59: Whether Commerce Should Correct Errors in West Fraser's BC Stumpage Calculation

VIII. Recommendation

Appendix II

Non-Selected Exporters/Producers

1 0752615 B.C Ltd; Fraserview Remanufacturing Inc, DBA Fraserview Cedar Products

2 10104704 Manitoba Ltd O/A Woodstock Forest Products

3 1074712 BC Ltd. (Quadra Cedar)

4 5214875 Manitoba Ltd.; AM Lumber Brokerage

5 Absolute Lumber Products, Ltd.

6 Adwood Manufacturing Ltd.

7 AJ Forest Products Ltd.

8 Aler Forest Products, Ltd.

9 Alpa Lumber Mills Inc.

10 Andersen Pacific Forest Products Ltd.

11 Antrim Cedar Corporation

12 Aquila Cedar Products Ltd.

13 Arbec Lumber Inc. (aka Arbec Bois Doeuvre Inc.)

14 Aspen Pacific Industries Inc.

15 Aspen Planers Ltd.

16 B&L Forest Products Ltd.

17 B.B. Pallets Inc. (aka Les Palettes B.B. Inc.)

18 Babine Forest Products Limited

19 Bakerview Forest Products Inc.

20 Barrette-Chapais Ltee

21 BarretteWood Inc.

22 Benoit & Dionne Produits Forestiers Ltee (aka Benoit & Dionne Forest Products Ltd.)

23 Blanchet Multi Concept Inc.

24 Blanchette & Blanchette Inc.

25 Bois Aise de Montreal Inc.

26 Bois Bonsai Inc.

27 Bois D'oeuvre Cedrico Inc. (aka Cedrico Lumber Inc.)

28 Bois Daaquam inc. (aka Daaquam Lumber Inc.)

29 Bois et Solutions Marketing SPEC, Inc. (aka SPEC Wood & Marketing Solution or SPEC Wood and Marketing Solutions Inc.)

30 Bois Weedon Inc.

31 Boisaco Inc.

32 Boscus Canada Inc.

33 Boucher Bros. Lumber Ltd.

34 BPWood Ltd.

35 Bramwood Forest Inc.

36 Brink Forest Products Ltd.

37 Brunswick Valley Lumber Inc.

38 Busque & Laflamme Inc.

39 Canadian Bavarian Millwork & Lumber Ltd.

40 Canyon Lumber Company, Ltd.

41 Carrier & Begin Inc.

42 Carrier Forest Products Ltd.

43 Carrier Lumber Ltd.

44 Carter Forest Products Inc.

45 Cedarland Forest Products Ltd.

46 Cedarline Industries Ltd.

47 Central Alberta Pallet Supply

48 Central Cedar Ltd.

49 Centurion Lumber Ltd.

50 Chaleur Forest Products Inc.

51 Chaleur Forest Products LP

52 Channel-ex Trading Corporation

53 CHAP Alliance Inc.

54 Clair Industrial Development Corp. Ltd

55 Clermond Hamel Ltee

56 CLG Enterprises Inc.

57 CNH Products Inc.

58 Columbia River Shake & Shingle Ltd.; Teal Cedar Products Ltd., dba The Teal Jones Group

59 Commonwealth Plywood Co. Ltd.

60 Conifex Fibre Marketing Inc.

61 Coulson Manufacturing Ltd.

62 Cowichan Lumber Ltd.

63 CS Manufacturing Inc., dba Cedarshed

64 CWP Industriel Inc. (aka CWP—Industriel Inc.)

65 D & D Pallets Ltd.

66 Dakeryn Industries Ltd.

67 Decker Lake Forest Products Ltd.

68 Deep Cove Forest Products, Inc.

69 Delco Forest Products Ltd.

70 Delta Cedar Specialties Ltd.

71 Devon Lumber Co. Ltd.

72 DH Manufacturing Inc.

73 Doubletree Forest Products Ltd.

74 Downie Timber Ltd.

75 Dunkley Lumber Ltd.

76 EACOM Timber Corporation

77 East Fraser Fiber Co. Ltd.

78 Edgewood Forest Products Inc.

79 ER Probyn Export Ltd.

80 Falcon Lumber Ltd.

81 Fontaine Inc.; Gestion Natanis Inc.; Les Placements Jean-Paul Fontaine Ltee; Placements Nicolas Fontaine Inc.

82 Foothills Forest Products Inc.

83 Fort St. James Forest Products Limited Partnership

84 Fraser Specialty Products Ltd.

85 FraserWood Industries Ltd.

86 Furtado Forest Products Ltd.

87 Galloway Lumber Company Ltd.

88 Gilbert Smith Forest Products Ltd.

89 Goldwood Industries Ltd.

90 Goodfellow Inc.

91 Gorman Bros. Lumber Ltd.

92 Greendale Industries Inc.

93 GreenFirst Forest Products (QC) Inc.

94 Greenwell Resources Inc.

95 Griff Building Supplies Ltd.

96 Groupe Crete Chertsey Inc.

97 Groupe Crete Division St-Faustin Inc.

98 Groupe Lebel Inc.

99 H.J. Crabbe & Sons Ltd.

100 Haida Forest Products Ltd.

101 Halo Sawmill Manufacturing Limited Partnership

102 Hampton Tree Farms, LLC, dba Hampton Lumber Sales Canada

103 Hornepayne Lumber LP

104 Hudson Mitchell & Sons Lumber Inc.

105 Hy Mark Wood Products Inc.

106 Independent Building Materials Distribution Inc.

107 Interfor Corporation

108 Interfor Sales & Marketing Ltd.

109 Ivor Forest Products Ltd.

110 J&G Log Works Ltd.

111 J.H. Huscroft Ltd.

112 Jan Woodlands (2001) Inc.

113 Jasco Forest Products Ltd.

114 Jazz Forest Products Ltd.

115 Jhajj Lumber Corporation

116 Kalesnikoff Lumber Co. Ltd.

117 Kan Wood, Ltd.

118 Kebois Ltee/Ltd

119 Kelfor Industries Ltd.

120 Kermode Forest Products Ltd.

121 Keystone Timber Ltd.

122 La Crete Sawmills Ltd.

123 Lafontaine Lumber Inc.

124 Langevin Forest Products Inc.

125 Lecours Lumber Co. Limited

126 Leisure Lumber Ltd.

127 Les Bois d'oeuvre Beaudoin Gauthier Inc.

128 Les Bois Martek Lumber

129 Les Chantiers de Chibougamau Ltd./Ltee

130 Les Industries P.F. Inc.

131 Leslie Forest Products Ltd.

132 Lignum Forest Products LLP

133 Linwood Homes Ltd.

134 Lonestar Lumber lnc.

135 Lulumco Inc.

136 Magnum Forest Products, Ltd.

137 Maibec Inc.

138 Manitou Forest Products Ltd

139 Marwood Ltd.

140 Materiaux Blanchet Inc.

141 Metrie Canada Ltd.

142 Mid Valley Lumber Specialties Ltd.

143 Midway Lumber Mills Ltd.

144 Mill & Timber Products Ltd.

145 Millar Western Forest Products Ltd.

146 Mirax Lumber Products Ltd.

147 Mobilier Rustique (Beauce) Inc.; J.F.S.R. Inc.; Gestion C.A. Rancourt Inc.; Gestion J.F. Rancourt Inc.; Gestion Suzie Rancourt Inc.; Gestion P.H.Q. Inc.; 9331-3419 Quebec Inc.; 9331-3468 Quebec Inc.; SPQ Inc.

148 Monterra Lumber Mills Limited

149 Morwood Forest Products Inc.

150 Multicedre ltee

151 Murray Brothers Lumber Company Ltd

152 Nakina Lumber Inc.

153 National Forest Products Ltd.

154 Nicholson and Cates Ltd.

155 NorSask Forest Products Limited Partnership; NorSask Forest Products Inc.

156 North American Forest Products Ltd. (located in Abbotsford, British Columbia)

157 North Enderby Timber Ltd.

158 Northland Forest Products Ltd.

159 Oakwood Manufacturing, A Division of Weston Forest Products Inc.

160 Olympic Industries, Inc.; Olympic Industries ULC ¹²

¹² On March 21, 2023, Olympic Industries, Inc. and Olympic Industries ULC (collectively, Olympic) notified Commerce that Olympic Industries Inc-Reman Code, Olympic Industries ULC-Reman, and Olympic Industries ULC-Reman Code are no longer used by Olympic to export softwood lumber to the United States. See Olympic's Letter, “Response to Department of Commerce's Clarification Request,” dated March 21, 2023.

161 Pacific NorthWest Lumber Ltd.

162 Pacific Western Wood Works Ltd.

163 PalletSource Inc.

164 Parallel Wood Products Ltd.

165 Partap Forest Products Ltd.

166 Peak Industries (Cranbrook) Ltd.

167 Phoenix Forest Products Inc.

168 Pine Ideas Ltd.

169 Pioneer Pallet & Lumber Ltd.

170 Porcupine Wood Products Ltd.

171 Power Wood Corp.

172 Precision Cedar Products Corp.

173 Produits Forestiers Petit Paris Inc.

174 Produits Matra Inc.; Sechoirs de Beauce Inc.; Bois Ouvre de Beauceville (1992), Inc.

175 Promobois G.D.S. Inc.

176 R.A. Green Lumber Ltd.

177 Rayonier A.M. Canada GP

178 Rembos Inc.

179 Rene Bernard inc.

180 Resolute FP Canada Inc.; 9192-8515 Quebec Inc.; Abitibi-Bowater Canada Inc.; Bowater Canadian Ltd.; Produits Forestiers Maurice SEC.; Resolute Forest Products Inc.

181 Rielly Industrial Lumber Inc.

182 River City Remanufacturing Inc.

183 S&R Sawmills Ltd.

184 San Group

185 San Industries Ltd.

186 Sawarne Lumber Co. Ltd.

187 Scierie St-Michel Inc.

188 Scierie West Brome Inc.

189 Scott Lumber Sales Ltd.

190 Shakertown Corp.

191 Sigurdson Forest Products Ltd.

192 Sinclar Group Forest Products Ltd.

193 Skana Forest Products Ltd.

194 Skeena Sawmills Ltd.

195 South Beach Trading Inc.

196 South Coast Reman Ltd.

197 Southcoast Millwork Ltd.

198 Specialiste du Bardeau de Cedre Inc. (aka SBC)

199 Spruceland Millworks Inc.

200 Sundher Timber Products Inc.

201 Surrey Cedar Ltd.

202 Taan Forest Limited Partnership (aka Taan Forest Products)

203 Taiga Building Products Ltd.

204 Tall Tree Lumber Company

205 Terminal Forest Products Ltd.

206 TG Wood Products

207 The Wood Source Inc.

208 Top Quality Lumber Ltd.

209 Trans-Pacific Trading Ltd.

210 Triad Forest Products Ltd.

211 Twin Rivers Paper Co. Inc.

212 Tyee Timber Products Ltd.

213 Universal Lumber Sales Ltd.

214 Usine Sartigan Inc.

215 Vaagen Fibre Canada, ULC

216 Vancouver Specialty Cedar Products Ltd.

217 Vanderhoof Specialty Wood Products Ltd.

218 Vanderwell Contractors (1971) Ltd.

219 Visscher Lumber Inc.

220 W.I. Woodtone Industries Inc.

221 West Bay Forest Products Ltd.

222 West Coast Panel Cutters

223 Western Forest Products Inc.

224 Western Lumber Sales Limited

225 Westminster Industries Ltd.

226 Weston Forest Products Inc.

227 Westrend Exteriors Inc.

228 Weyerhaeuser Co.

229 White River Forest Products L.P.

230 Woodline Forest Products Ltd.

231 Woodstock Forest Products

232 Woodtone Specialties Inc.

[FR Doc. 2024-18442 Filed 8-16-24; 8:45 am]

BILLING CODE 3510-DS-P